DEPARTMENT OF STATE

[Public Notice 4376]

Bureau of Educational and Cultural Affairs (ECA/EC/ECD); 30-Day Notice of Proposed Information Collection: Form DS-3097, Annual Report by Sponsors of Exchange Visitor Programs; OMB Control Number 1405-XXXX

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: New collection.

Originating Office: Bureau of Educational and Cultural Affairs.

Title of Information Collection: Form DS-3097, Annual Report by Sponsors of Exchange Visitor Programs.

Frequency: annually.

Form Number: Form DS-3097.

Respondents: Designated program sponsors.

Estimated Number of Respondents: 1460 respondents.

Average Hours Per Response: one hour.

Total Estimated Burden: 1460 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Mr. Stanley Colvin, 301 4th Street, SW., Room 734, Washington, DC 20547, or at (202) 401-9810. Public comments and questions should be directed to the State Department Desk Officer, Office of Information and Regulatory Affairs, Office of Management and Budget (OMB), Washington, DC 20530, who may be reached on (202) 395-3897.

Dated: May 7, 2003.
Patricia S. Harrison,
Assistant Secretary, Bureau of Educational and Cultural Affairs, Department of State.

[FR Doc. 03-13266 Filed 5-27-03; 8:45 am]

BILLING CODE 4710-05-P